FEDERAL COMMUNICATIONS COMMISSION

47 CFR Part 73

[MB Docket No. 02-277, and MM Docket Nos. 01-235, 01-317, and 00-244; DA 03-2671]

Broadcast Ownership Rules, Cross-Ownership of Broadcast Stations and Newspapers, Multiple Ownership of Radio Broadcast Stations in Local Markets, and Definition of Radio Markets

AGENCY: Federal Communications Commission.

ACTION: Final rule; petitions for reconsideration.

SUMMARY: This decision grants a motion requesting permission to exceed the Commission's page limits for petitions for reconsideration, as well as oppositions and replies thereto, in this proceeding. This decision provides that such petitions and oppositions may be up to 50 pages each, and replies may be up to 20 pages.

FOR FURTHER INFORMATION CONTACT: Debra Sabourin, 202-418-2330.

SUPPLEMENTARY INFORMATION: This is a summary of the Order in MB Docket No. 02-277, and MM Docket Nos. 01-235, 01-317, and 00-244, DA 03-2671, adopted August 15, 2003, and released August 15, 2003. The complete text of this Order is available for inspection and copying during normal business hours in the FCC Reference Information Center, Courtyard Level, 445 12th Street, SW., Washington, DC, and also may be purchased from the Commission's copy contractor, Qualex International, Portals II, 445 12th Street, SW., Room CY-B402, Washington, DC 20554, telephone 202-863-2893, facsimile 202-863-2898, or via e-mail at qualexint@aol.com. Alternative formats (computer diskette, large print, audio cassette, and Braille) are available to persons with disabilities by contacting Brian Millin at 202-418-7426, TTY 202-418-7365, or at bmillin@fcc.gov.

Synopsis of the Order

1. On July 2, 2003, the Commission released a Report and Order and Notice of Proposed Rulemaking, completing its third biennial review of its broadcast ownership rules. (See Report and Order at 68 FR 46286, August 5, 2003, and Notice of Proposed Rulemaking at 68 FR 46359, August 5, 2003.) On August 11, 2003, the Diversity and Competition Supporters (“Petitioners”) filed a motion requesting permission to exceed the page limits for petitions for reconsideration, as well as oppositions and replies thereto. See Motion to Extend Page Limits on Reconsideration (“Motion”), filed by Diversity and Competition Supporters, Aug. 11, 2003. The Commission's rules state that petitions for reconsideration and oppositions to petitions for reconsideration of Commission actions shall not exceed 25 double-spaced typewritten pages, and replies to oppositions shall not exceed 10 double-spaced typewritten pages. 47 CFR 1.429 (d), (f) and (g). Petitioners ask that we increase the limits for petitions and oppositions to 50 pages for each and the limits for replies to 20 pages. They argue that the broadcast ownership proceeding contains several interrelated proceedings, and they cannot discuss their points “coherently and thoroughly” within the page limits articulated in the rules. They add that the Commission has previously relaxed the page limitations when parties seek reconsideration of extraordinarily complex decisions.

2. We agree with Petitioners that the issues presented in this proceeding are both complex and important. The Report and Order was the culmination of the most comprehensive review of broadcast ownership regulation in the agency's history. We therefore find that the public interest would be best served by granting the Petitioners' Motion in order to assure a complete record and thorough treatment of all the issues on reconsideration. In this proceeding, petitions for reconsideration and oppositions to petitions for reconsideration will be limited to 50 pages each, and replies to opposition to petitions for reconsideration will be limited to 20 pages.

3. Accordingly, Petitioners' Motion to Extend Page Limits on Reconsideration in the above-captioned proceeding is granted.

Federal Communications Commission.
Robert Ratcliffe,
Deputy Chief, Media Bureau.

[FR Doc. 03-21651 Filed 8-25-03; 8:45 am]

BILLING CODE 6712-01-P